DEPARTMENT OF LABOR

Employment and Training Administration

[TA-W-81,264]

Phillips-Van Heusen Corporation, IZOD Dress Furnishings Division, New York, NY; Notice of Negative Determination on Reconsideration

On May 21, 2012, the Department of Labor issued an Affirmative Determination Regarding Application for Reconsideration for the workers and former workers of Phillips-Van Heusen Corporation, IZOD Women's Wholesale Division, New York, New York. The Department's Notice of determination was published in the Federal Register on April 19, 2012 (77 FR 23511).

Pursuant to 29 CFR 90.18(c), reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The initial Trade Adjustment Assistance (TAA) investigation resulted in a negative determination based on the findings that with respect to Section 222(a)(2)(A)(ii) of the Act, imports of services like or directly competitive with the design, sourcing, and sales services supplied by Phillips-Van Heusen Corporation, IZOD Women's Wholesale Division, New York, New York has not increased.

In the request for reconsideration, the worker on whose behalf the New York State Department of Labor filed the initial TAA petition claimed that the worker group in the original investigation (workers of Phillips-Van Heusen Corporation, IZOD Women's Wholesale Division, New York, New York) was incorrect, that the subject workers are part of the “Color Department” of the “Men's Dress Shirt Division” at Phillips-Van Heusen Corporation, New York, New York, and that the separated workers were affected by a shift in the supply of color approval services to China.

Information obtained during the reconsideration investigation confirmed that Phillips-Van Heusen Corporation, Izod Dress Furnishings Division, New York, New York is the correct subject of the TAA investigation.

The reconsideration investigation revealed that, with respect to Section 222(a) and Section 222(b) of the Act, Criterion (1) has not been met. The investigation revealed that a significant number or proportion of the workers in Phillips-Van Heusen Corporation, Izod Dress Furnishings Division, New York, New York, have not become totally or partially separated, nor are they threatened to become totally or partially separated.

Significant number or proportion of the workers means at least three workers in a firm (or appropriate subdivision of the firm) with a work force of fewer than fifty workers or, in a firm (or appropriate subdivision of the firm) with a work force of fifty or more workers, at least five percent of the workers or fifty workers (whichever is less). 29 CFR 90.2

Therefore, after careful review of the request for reconsideration, the Department determines that 29 CFR 90.18(c) has not been met.

Conclusion

After careful review, I determine that the requirements of Section 222 of the Act, 19 U.S.C. 2272, have not been met and, therefore, deny the petition for group eligibility of Phillips-Van Heusen Corporation, Izod Dress Furnishings Division, New York, New York, to apply for adjustment assistance, in accordance with Section 223 of the Act, 19 U.S.C. 2273.

Signed in Washington, DC, on this 16th day of July 2012.
Del Min Amy Chen,
Certifying Officer, Office of Trade Adjustment Assistance.

[FR Doc. 2012-18417 Filed 7-27-12; 8:45 am]

BILLING CODE 4510-FN-P